DEPARTMENT OF JUSTICE

Bureau of Alcohol, Tobacco, Firearms and Explosives

[OMB 1140-0107]

Agency Information Collection Activities; Proposed eCollection of eComments Requested; National Firearms Act (NFA) Responsible Person Questionnaire—ATF Form 5320.23

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed information collection (IC) is also being published to obtain comments from the public and affected agencies.

DATES: Comments are encouraged and will be accepted for 60 days until August 15, 2022.

FOR FURTHER INFORMATION CONTACT: If you have additional comments regarding the estimated public burden or associated response time, suggestions, or need a copy of the proposed information collection instrument with instructions, or additional information, contact: Connor Brandt, National Firearms Act Division, by mail at 244 Needy Road, Martinsburg, WV 25405, by email at nfaombcomments@atf.gov, or by telephone at 304-616-3175.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Extension without Change of a Currently Approved Collection.

2. The Title of the Form/Collection: National Firearms Act (NFA) Responsible Person Questionnaire.

3. The agency form number, if any, and the applicable component of the Department sponsoring the collection:

Form number (if applicable): ATF Form 5320.23.

Component: Bureau of Alcohol, Tobacco, Firearms and Explosives, U.S. Department of Justice.

4. Affected public who will be asked or required to respond, as well as a brief abstract:

Primary: Business or other for-profit, Federal Government, State Local or Tribal Government.

Other (if applicable): Not-for-profit institutions and Farms.

Abstract: The National Firearms Act (NFA) Responsible Person Questionnaire—ATF Form 5320.23 (ATF Form 5320.23) must be completed by a responsible person (RP), identified as part of a trust or legal entity on the Application to Make and Register a Firearm—ATF Form 1 (5320.1) (ATF Form 1). This form must also be completed by a RP who is the identified as the firearm maker or the transferee on the Application for Tax Paid Transfer and Registration of Firearm—ATF Form 4 (5320.4) (ATF Form 4), or the Application for Tax Exempt Transfer of Firearm—ATF Form 5 (5320.5) ATF Form 5.

5. An estimate of the total number of respondents and the amount of time estimated for an average respondent to respond: An estimated 115,829 respondents will respond to this collection once annually, and it will take each respondent approximately 30 minutes to complete their responses.

6. An estimate of the total public burden (in hours) associated with the collection: The estimated annual public burden associated with this collection is 57,914.5 or 57,915 hours, which is equal to 115,829 (total respondents) * 1 (# of response per respondent) * .5 (30 minutes or the time taken to prepare each response).

If additional information is required contact: Robert J. Houser, Assistant Director, Policy and Planning Staff, Office of the Chief Information Officer, United States Department of Justice, Justice Management Division, Two Constitution Square, 145 N Street NE, Mail Stop 3.E-206, Washington, DC 20530.

Dated: June 9, 2022.
Robert Houser,
Assistant Director, Policy and Planning Staff, U.S. Department of Justice.

[FR Doc. 2022-12856 Filed 6-14-22; 8:45 am]

BILLING CODE 4410-FY-P